Presidential Determination No. 2013-06 of February 11, 2013

Drawdown Under Section 506(a)(1) of the Foreign Assistance Act of 1961, as Amended, for Chad and France To Support Their Efforts in Mali

Memorandum for the Secretary of State [and] the Secretary of Defense

Pursuant to the authority vested in me by section 506(a)(1) of the Foreign Assistance Act of 1961, as amended, 22 U.S.C. 2318(a)(1) (the “Act”), I hereby determine that an unforeseen emergency exists that requires immediate military assistance to Chad and France in their efforts to secure Mali from terrorists and violent extremists. I further determine that these requirements cannot be met under the authority of the Arms Export Control Act or any other provision of law.

I, therefore, direct the drawdown of up to $50 million in defense services of the Department of Defense for these purposes and under the authorities of section 506(a)(1) of the Act.

The Secretary of State is authorized and directed to report this determination to the Congress, arrange for its publication in the Federal Register, and coordinate the implementation of this drawdown.

THE WHITE HOUSE,

Washington, February 11, 2013.

[FR Doc. 2013-04327

Filed 2-21-13; 11:15 am]

Billing code 4710-10